ENVIRONMENTAL PROTECTION AGENCY

40 CFR Part 52

[EPA-R09-OAR-2015-0510; FRL-9934-04-Region 9]

Revisions to the California State Implementation Plan, Antelope Valley Air Quality Management District

AGENCY: Environmental Protection Agency (EPA).

ACTION: Direct final rule.

SUMMARY: The Environmental Protection Agency (EPA) is taking direct final action to approve revisions to the Antelope Valley Air Quality Management District (AVAQMD) portion of the California State Implementation Plan (SIP). These revisions largely concern volatile organic compound (VOC) emissions from graphic arts facilities and aerospace assembly and coating operations. We are approving local rules that regulate these emission sources under the Clean Air Act (CAA or the Act). These revisions also address rescission of two rules no longer required, and administrative revisions to the emergency episode plan requirements.

DATES: This rule is effective on December 4, 2015 without further notice, unless the EPA receives adverse comments by November 4, 2015. If we receive such comments, we will publish a timely withdrawal in the Federal Register to notify the public that this direct final rule will not take effect.

ADDRESSES: Submit comments, identified by docket number [EPA-R09-OAR-2015-0510, by one of the following methods:

1. Federal eRulemaking Portal: www.regulations.gov. Follow the on-line instructions.

2. Email: steckel.andrew@epa.gov.

3. Mail or deliver: Andrew Steckel (Air-4), U.S. Environmental Protection Agency Region IX, 75 Hawthorne Street, San Francisco, CA 94105-3901.

Instructions: All comments will be included in the public docket without change and may be made available online at www.regulations.gov, including any personal information provided, unless the comment includes Confidential Business Information (CBI) or other information whose disclosure is restricted by statute. Information that you consider CBI or otherwise protected should be clearly identified as such and should not be submitted through www.regulations.gov or email. www.regulations.gov is an “anonymous access” system, and the EPA will not know your identity or contact information unless you provide it in the body of your comment. If you send email directly to the EPA, your email address will be automatically captured and included as part of the public comment. If the EPA cannot read your comment due to technical difficulties and cannot contact you for clarification, the EPA may not be able to consider your comment. Electronic files should avoid the use of special characters, any form of encryption, and be free of any defects or viruses.

Docket: Generally, documents in the docket for this action are available electronically at www.regulations.gov and in hard copy at EPA Region IX, 75 Hawthorne Street, San Francisco, California 94105-3901. While all documents in the docket are listed at www.regulations.gov, some information may be publicly available only at the hard copy location (e.g., copyrighted material, large maps), and some may not be publicly available in either location (e.g., CBI). To inspect the hard copy materials, please schedule an appointment during normal business hours with the contact listed in the FOR FURTHER INFORMATION CONTACT section.

FOR FURTHER INFORMATION CONTACT: Vanessa Graham, EPA Region IX, (415) 947-4120 graham.vanessa@epa.gov.

SUPPLEMENTARY INFORMATION: Throughout this document, “we,” “us,” and “our” refer to the EPA.

Table of Contents

I. The State's Submittal

A. What rules did the State submit?

B. Are there other versions of these rules?

C. What is the purpose of the submitted rules and rule revisions?

II. The EPA's Evaluation and Action

A. How is the EPA evaluating the rules?

B. Do the rules meet the evaluation criteria?

C. EPA Recommendations To Further Improve These Rules

D. Public Comment and Final Action

III. Incorporation by Reference

IV. Statutory and Executive Order Reviews

I. The State's Submittal

A. What rules did the State submit?

Table 1 lists the rules addressed by this action with the dates that they were amended or rescinded by AVAQMD and submitted by the California Air Resources Board (CARB). Table 2 provides Federal Register dates and citations for when the EPA approved into the SIP the two rules that are now being rescinded.

Table 1—Submitted Rules
Local agency | Rule No. | Rule title | Rescinded | Amended | Submitted
AVAQMD | 701 | Air Pollution Emergency Contingency Actions |  | 04/15/14 | 11/06/14
AVAQMD | 1110 | Emissions from Stationary Internal Combustion Engines (Demonstration) | 01/15/13 |  | 05/13/14
AVAQMD | 1124 | Aerospace Assembly and Component Manufacturing Operations |  | 08/20/13 | 05/13/14
AVAQMD | 1128 | Paper, Fabric and Film Coating Operations | 11/19/13 |  | 05/13/14
AVAQMD | 1130 | Graphic Arts |  | 11/19/13 | 05/13/14

Table 2—Rules To Be Rescinded
Local agency | Rule No. | Rule title | SIP Approval date | FR Citation
SCAQMD | 1110 | Emissions from Stationary Internal Combustion Engines (Demonstration) | 05/03/1984 | 49 FR 18822
SCAQMD | 1128 | Paper, Fabric and Film Coating Operations | 12/20/1993 | 58 FR 66286

On June 18, 2014, the EPA determined that the submittal for AVAQMD Rules 1110, 1124, 1128 and 1130 met the completeness criteria in 40 CFR part 51 Appendix V, which must be met before formal EPA review. On December 18, 2014, the EPA determined that the submittal for AVAQMD Rule 701 met the completeness criteria as well.

B. Are there other versions of these rules?

We approved earlier versions of Rules 701, 1124, 1130, 1110 and 1128 into the SIP on March 7, 2003 (68 FR 10966), May 6, 1996 (61 FR 20136), October 31, 1995 (60 FR 55312), May 3, 1984 (49 FR 18822) and December 20, 1993 (58 FR 66286) respectively.

C. What is the purpose of the submitted rules and rule revisions?

VOCs help produce ground-level ozone and smog that can harm human health and the environment. Section 110(a) of the CAA requires States to submit regulations that control VOC emissions.

Rule 701 is intended to fulfill requirements for emergency episode plans described in CAA sections 110(a)(1) and (a)(2). The proposed amendments to Rule 701 are mainly administrative in nature. In addition, the episode criteria for PM was adjusted.

AVAQMD rescinded Rule 1110 because the demonstration program adopted from the South Coast Air Quality Management District (SCAQMD) prior to the formation of the AVAQMD is no longer in use. The EPA previously approved SCAQMD's rescission of Rule 1110 from the SCAQMD portion of the SIP on July 14, 2014 (79 FR 40675). We are now similarly rescinding the rule from the AVAQMD portion of the SIP. We are also amending the language at 40 CFR part 52 Subpart F to clarify that our earlier approval applied only to the SCAQMD portion of the SIP.

Rule 1124 limits VOC emissions from aerospace primers, coatings, adhesives, maskants and lubricants and from cleaning, stripping, storage and disposal of organic solvents and waste materials associated with the use of the above mentioned aerospace material categories.

AVAQMD rescinded Rule 1128 and incorporated all substantive requirements of this Rule into the amended version of AVAQMD Rule 1130, which we are approving in this action. The rescission of the AVAQMD portion of SCAQMD Rule 1128 shall have no effect on SCAQMD Rule 1128 currently approved in the South Coast portion of the SIP.¹

¹ SCAQMD Rule 1128 was originally developed as part of the SCAQMD's program to control volatile organic compounds (VOC). At the time the rule was adopted, the area controlled by the SCAQMD included the portion of Los Angeles County located in the Mojave Desert Air Basin, known as the Antelope Valley. In 1997, the Antelope Valley Air Pollution Control District (AVAPCD) was formed pursuant to statute, and assumed the duties and powers of the SCAQMD in the Antelope Valley. AVAQMD was created to replace AVAPCD in 2002.

Rule 1130 limits VOC emissions from graphic arts processes, largely by establishing work practice requirements and limiting the amount of VOC in graphic arts coatings, inks and solvents. The amendments to Rule 1130 were submitted to satisfy Reasonably Available Control Technology (RACT) requirements under CAA sections 172(c)(1) and 182(b).

The EPA's technical support documents (TSD) have more information about these rules.

II. The EPA's Evaluation and Action

A. How is the EPA evaluating the rules?

SIP rules must be enforceable (see CAA section 110(a)(2)), must not interfere with applicable requirements concerning attainment and reasonable further progress or other CAA requirements (see CAA section 110(l)), and must not modify certain SIP control requirements in nonattainment areas without ensuring equivalent or greater emissions reductions (see CAA section 193).

AVAQMD regulates an ozone nonattainment area classified as severe under both the 1997 and 2008 eight-hour ozone NAAQS. 40 CFR 81.305. CAA section 172(c)(1) requires nonattainment areas to implement all reasonably available control measures (RACM), including such reductions in emissions from existing sources in the area as may be obtained through the adoption, at a minimum, of RACT, as expeditiously as practicable. Additional control measures for graphic arts processes may be required pursuant to CAA section 172(c)(1) if both: (1) Additional measures are reasonably available; and (2) these additional reasonably available measures will advance attainment of one or more ozone standards in the area or contribute to reasonable further progress (RFP) when considered collectively (see 80 FR 12264, 12282). In addition, SIP rules must require RACT for each category of sources covered by a Control Techniques Guidelines (CTG) document as well as each VOC major source in ozone nonattainment areas classified as moderate or above (see CAA section 182(b)(2)). Since Rules 1124 and 1130 regulate sources subject to a CTG in a severe nonattainment area, they must implement RACT. RACT is not required of Rules 701, 1110 and 1128 as discussed in the TSDs.

Guidance and policy documents that we use to evaluate enforceability, revision/relaxation and rule stringency requirements for the applicable criteria pollutants include the following:

1. “Issues Relating to VOC Regulation Cutpoints, Deficiencies, and Deviations” (“the Bluebook,” U.S. EPA, May 25, 1988; revised January 11, 1990).

2. “Guidance Document for Correcting Common VOC & Other Rule Deficiencies” (“the Little Bluebook”, EPA Region 9, August 21, 2001).

3. “Control Techniques Guidelines (CTG) for Offset Lithographic Printing and Letterpress Printing”, September 2006 (EPA 453/R-06-002).

4. “Control Techniques Guidelines (CTG) for Flexible Package Printing”, September 2006 (EPA 453/R-06-003).

5. “Control Techniques Guidelines (CTG) for Paper, Film, and Foil Coatings”, September 2007 (EPA 453/R-07-003).

6. “Guidance on Infrastructure State Implementation Plan (SIP) Elements under Clean Air Act Sections 110(a)(1) and 110(a)(2); USEPA Memorandum dated September 13, 2013.

7. 40 CFR part 51, subpart H—Prevention of Air Pollution Emergency Episodes.

B. Do the rules meet the evaluation criteria?

We believe these rules are consistent with the relevant policy and guidance regarding enforceability, RACT, and SIP relaxations. The TSDs have more information on our evaluation.

C. EPA Recommendations To Further Improve These Rules

The TSDs describe additional rule revisions that we recommend for the next time the local agency modifies Rules 701, 1124 and 1130, but are not currently the basis for rule disapproval.

D. Public Comment and Final Action

As authorized in section 110(k)(3) of the Act, the EPA is fully approving the submitted Rules 701, 1124 and 1130 because we believe they fulfill all relevant requirements. We are also approving rescission of Rules 1110 and 1128. We do not think anyone will object to this approval, so we are finalizing it without proposing it in advance. However, in the Proposed Rules section of this Federal Register, we are simultaneously proposing approval of the same submitted action. If we receive adverse comments by November 4, 2015, we will publish a timely withdrawal in the Federal Register to notify the public that the direct final approval will not take effect and we will address the comments in a subsequent final action based on the proposal. If we do not receive timely adverse comments, the direct final approval will be effective without further notice on December 4, 2015. This will incorporate AVAQMD Rules 701, 1124 and 1130 into the federally enforceable SIP and remove the Antelope Valley portion of the SCAQMD Rules 1110 and 1128 from the federally enforceable SIP.

Please note that if the EPA receives adverse comment on an amendment, paragraph, or section of this rule and if that provision may be severed from the remainder of the rule, the EPA may adopt as final those provisions of the rule that are not the subject of an adverse comment.

III. Incorporation by Reference

In this rule, the EPA is finalizing regulatory text that includes incorporation by reference. In accordance with requirements of 1 CFR 51.5, the EPA is finalizing the incorporation by reference of the AVAQMD rules described in the amendments to 40 CFR part 52 set forth below. The EPA has made, and will continue to make, these documents available electronically through www.regulations.gov and in hard copy at the appropriate EPA office (see the ADDRESSES section of this preamble for more information).

IV. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by December 4, 2015. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the Proposed Rules section of this Federal Register, rather than file an immediate petition for judicial review of this direct final rule, so that the EPA can withdraw this direct final rule and address the comment in the proposed rulemaking. This action may not be challenged later in proceedings to enforce its requirements (see section 307(b)(2)).

List of Subjects in 40 CFR Part 52

Environmental protection, Air pollution control, Incorporation by reference, Intergovernmental relations, Reporting and recordkeeping requirements, Volatile organic compounds.

Dated: September 1, 2015.
Jared Blumenfeld,
Regional Administrator, Region IX.

Part 52, chapter I, title 40 of the Code of Federal Regulations is amended as follows:

PART 52—APPROVAL AND PROMULGATION OF IMPLEMENTATION PLANS

1. The authority citation for part 52 continues to read as follows:

Authority: 42 U.S.C. 7401 et seq.

Subpart F—California

2. Section 52.220 is amended by:

a. Revising paragraph (c)(121)(i)(E); and

b. Adding paragraphs (c)(121)(i)(F), (c)(189)(i)(A)(9), (c)(441)(i)(E), and (c)(457)(i)(F).

The revision and additions read as follows:

§ 52.220 Identification of plan.

* * * * *

(c) * * *

(121) * * *

(i) * * *

(E) Previously approved on May 3, 1984 in paragraph (c)(121)(i)(C) of this section and now deleted without replacement for implementation in the South Coast Air Quality Management District, Rule 1110.

(F) Previously approved on May 3, 1984 in paragraph (c)(121)(i)(C) of this section and now deleted without replacement for implementation in the Antelope Valley Air Quality Management District, Rule 1110.

* * * * *

(189) * * *

(i) * * *

(A) * * *

(9) Previously approved on December 20, 1993 in paragraph (c)(189)(i)(A)(3) of this section and now deleted without replacement for implementation in the Antelope Valley Air Quality Management District, Rule 1128.

* * * * *

(441) * * *

(i) * * *

(E) Antelope Valley Air Quality Management District.

(1) Rule 1124, “Aerospace Assembly and Component Manufacturing Operations,” amended on August 20, 2013.

(2) Rule 1130, “Graphic Arts,” amended on November 19, 2013.

* * * * *

(457) * * *

(i) * * *

(F) Antelope Valley Air Quality Management District.

(1) Rule 701, “Air Pollution Emergency Contingency Actions,” amended on April 15, 2014.

* * * * *

[FR Doc. 2015-25161 Filed 10-2-15; 8:45 am]

BILLING CODE 6560-50-P